DEPARTMENT OF EDUCATION

[Docket No.: ED-2020-SCC-0142]

Agency Information Collection Activities; Submission to the Office of Management and Budget for Review and approval; Comment Request; 2020/22 Beginning Postsecondary Students (BPS:20/22) Field Test

AGENCY: Institute of Education Sciences (IES), Department of Education (ED).

ACTION: Notice.

SUMMARY: In accordance with the Paperwork Reduction Act of 1995, ED is proposing a reinstatement with change of a previously approved information collection.

DATES: Interested persons are invited to submit comments on or before December 30, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2020/22 Beginning Postsecondary Students (BPS:20/22) Field Test.

OMB Control Number: 1850-0631.

Type of Review: A reinstatement with change of a previously approved information collection.

Respondents/Affected Public: Individuals and Households Total Estimated Number of Annual Responses: 7,568.

Total Estimated Number of Annual Burden Hours: 1,226.

Abstract: The 2020/22 Beginning Postsecondary Students Field Test (BPS:20/22) is conducted by the National Center for Education Statistics, part of the Institute of Education Sciences, within the Department of Education, and is part of the Beginning Postsecondary Students Longitudinal Study data collection program at https://nces.ed.gov/surveys/bps/. The Sample Collection will begin 03/01/21 and end 06/30/21.

BPS is designed to follow a cohort of students who enroll in postsecondary education for the first time during the same academic year, irrespective of the date of high school completion. The study collects data on students' persistence in and completion of postsecondary education programs; their transition to employment; demographic characteristics; and changes over time in their goals, marital status, income, and debt, among other indicators. Data from BPS are used to help researchers and policymakers better understand how financial aid influences persistence and completion, what percentages of students complete various degree programs, what are the early employment and wage outcomes for certificate and degree attainers, and why students leave school.

BPS:20/22 will be a nationally-representative sample of approximately 37,000 students who were first-time beginning students during the 2019-20 academic year. The BPS:20/22 field test will include approximately 3,700 students who first began in the 2018-19 academic year. These students will be asked to complete a survey and administrative data will also be collected for them. Administrative data matching will be conducted with sources including the National Student Loan Data System (NSLDS), containing federal loan and grant files; the Central Processing System (CPS), which houses and processes data contained in the Free Application for Federal Student Aid (FAFSA) forms; the National Student Clearinghouse (NSC) which provides enrollment and degree verification; vendors of national undergraduate, graduate, and professional student admission tests; and possible other administrative data sources such as the Veterans Benefits Administration (VBA). These data will be obtained through file matching/downloading.

This submission covers BPS:20/22 field test materials and procedures required for conducting the student survey and for matching data to administrative records. Following the field test study in 2021, NCES will provide the Office of Management and Budget (OMB) with a memorandum summarizing any changes planned for the full-scale data collection, and a revised OMB package. The materials that will be used in the BPS:20/22 full-scale study will be based upon the field test materials included in this submission. Additionally, this submission is designed to adequately justify the need for and overall practical utility of the full study, presenting the overarching plan for all of the phases of the data collection and providing as much detail about the measures to be used as is available at the time of this submission. As part of this submission, NCES is publishing a notice in the Federal Register allowing first a 60- and then a 30-day public comment period. Field test materials, procedures, and results will inform the full-scale study. After completion of the field test, NCES will publish a notice in the Federal Register allowing additional 30-day public comment period on the final details of the BPS:20/22 full-scale study.

Dated: November 23, 2020.
Stephanie Valentine,
PRA Coordinator, Strategic Collections and Clearance Governance and Strategy Division, Office of Chief Data Officer, Office of Planning, Evaluation and Policy Development.

[FR Doc. 2020-26268 Filed 11-27-20; 8:45 am]

BILLING CODE 4000-01-P